DEPARTMENT OF EDUCATION

Applications for New Awards; Indian Education Discretionary Grants Programs-Native American Language Program; Correction

AGENCY: Office of Elementary and Secondary Education, Department of Education.

ACTION: Notice; correction.

SUMMARY: On June 3, 2022, the Department of Education (Department) published in the Federal Register a notice inviting applications (NIA) for new awards for fiscal year (FY) 2022 for the Indian Education Discretionary Grants Programs-Native American Language Program (NAL@ED), Assistance Listing Number (ALN) 84.415B. We are correcting the deadline for intergovernmental review. All other information in the NIA remains the same.

DATES: This correction is applicable August 23, 2022.

FOR FURTHER INFORMATION CONTACT: Angela Hernandez, U.S. Department of Education, 400 Maryland Avenue SW, Room 3W234, LBJ, Washington, DC 20202. Telephone: (202) 205-1909. Email: NAL@ed.gov.

If you are deaf, hard of hearing, or have a speech disability and wish to access telecommunications relay services, please dial 7-1-1.

SUPPLEMENTARY INFORMATION: On June 3, 2022, we published an NIA in the Federal Register (87 FR 33763). In the NIA, we indicated that the deadline for intergovernmental review is October 3, 2022. However, because the Department must make awards by September 30, 2022, we are partially waiving the intergovernmental review period. Specifically, we are reducing it from 60 days after the deadline for transmittal of applications to 30 days after the deadline for transmittal of applications. We are making this correction in order to make awards by the Department's September 30, 2022, deadline to obligate these funds. As a result, we are correcting the deadline for intergovernmental review to September 1, 2022.

All other information in the NIA remains the same.

Correction

In FR Doc. 2022-12016 appearing on page 33763 in the Federal Register published on June 3, 2022, we make the following corrections:

1. On page 33763, under DATES in the second column, we are revising the Deadline for intergovernmental review so that the date reads as follows:

September 1, 2022.

2. On page 33767, under section IV.3 Intergovernmental Review in the first column, we are adding a sentence at the end of the section so that the entire section reads as follows:

3. Intergovernmental Review: This competition is subject to Executive Order 12372 and the regulations in 34 CFR part 79. Information about Intergovernmental Review of Federal Programs under Executive Order 12372 is in the application package for this competition. Please note that, under 34 CFR 79.8(a), we have shortened the standard 60-day intergovernmental review period in order to make awards by the end of FY 2022.

Program Authority: Title VI, part A, subpart 3 of the Elementary and Secondary Education Act of 1965, as amended, section 6133, 20 U.S.C. 7453.

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

James F. Lane,
Senior Advisor, Office of the Secretary, Delegated the Authority to Perform the Functions and Duties of the Assistant Secretary Office of Elementary and Secondary Education.

[FR Doc. 2022-18235 Filed 8-22-22; 8:45 am]

BILLING CODE 4000-01-P